DEPARTMENT OF COMMERCE

National Institute of Standards and Technology

NIST Blue Ribbon Commission on Management and Safety

AGENCY: National Institute of Standards and Technology, Department of Commerce.

ACTION: Notice of public meeting.

SUMMARY: Pursuant to the Federal Advisory Committee Act, 5 U.S.C. app. 2, notice is hereby given that the NIST Blue Ribbon Commission on Management and Safety, National Institute of Standards and Technology (NIST) will meet Monday, October 6, from 9 a.m.-4 p.m., in the NIST laboratory in Boulder, CO. This notice is the second meeting of the Blue Ribbon Commission on Management and Safety.

The purpose of this meeting is to continue a high level review of NIST's management structure and systems as they relate to safety at the Institute. The Commission will ultimately provide consensus advice to the Department of Commerce on whether (a) The training, safety, security, and response protocols, (b) the implementation of those protocols and internal controls, and (c) the management structure at NIST are appropriate to ensure safe operations of all NIST programs. The agenda for this meeting will focus on NIST safety and management structure at the Boulder laboratories. The agenda may change to accommodate Commission business. The final agenda will be posted on the NIST Web site at http://www.nist.gov/director/blueribbon/index.html.

DATES: The meeting will convene on October 6, 2008 at 9 a.m., and will adjourn at 4 p.m.

ADDRESSES: The meeting will be held in Building 1, Room 1103/1105, at the National Institute of Standards and Technology, Boulder, Colorado 80305.

To enable NIST to make arrangements to admit visitors to the NIST campus, anyone wishing to attend this meeting should submit name, e-mail address and phone number to Mary Lou Norris (marylou.norris@nist.gov) no later than October 2, 2008.

FOR FURTHER INFORMATION CONTACT: Mary Lou Norris, National Institute of Standards and Technology, Building 101, MS 1071, 100 Bureau Drive, Gaithersburg, MD 20899; telephone: (301) 975-2002; e-mail: marylou.norris@nist.gov.

Dated: September 18, 2008.
Patrick D. Gallagher,
Deputy Director.

[FR Doc. E8-22351 Filed 9-19-08; 11:15 am]

BILLING CODE 3510-13-P